NUCLEAR REGULATORY COMMISSION

10 CFR Parts 34, 36, and 39

[NRC-2019-0031]

RIN 3150-AK29

Individual Monitoring Devices

AGENCY: Nuclear Regulatory Commission.

ACTION: Direct final rule; confirmation of effective date.

SUMMARY: The U.S. Nuclear Regulatory Commission (NRC) is confirming the effective date of June 16, 2020, for the direct final rule published in the Federal Register on March 18, 2020. The amendments in the direct final rule authorize the use of modern individual monitoring devices in industrial radiographic, irradiator, and well logging operations, and align personnel dosimetry requirements in these areas with the requirements for all other NRC licensees.

DATES: Effective Date: The effective date of June 16, 2020, for the direct final rule published March 18, 2020 (85 FR 15347), is confirmed.

ADDRESSES: Please refer to Docket ID NRC-2019-0031 when contacting the NRC about the availability of information for this action. You may obtain publicly-available information related to this action by any of the following methods:

• Federal Rulemaking Website: Go to https://www.regulations.gov and search for Docket ID NRC-2019-0031. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The Public Document Room (PDR), where you may examine and order copies of public documents, is currently closed. You may submit your request to the PDR via email at PDR.Resource@nrc.gov or call 1-800-397-4209 between 8:00 a.m. and 4:00 p.m. (EST), Monday through Friday, except Federal holidays.

FOR FURTHER INFORMATION CONTACT: Anthony McMurtray, telephone: 301-415-2746, email: Anthony.McMurtray@nrc.gov; or Edward Lohr, telephone: 301-415-0253, email: Edward.Lohr@nrc.gov. Both are staff of the Office of Nuclear Material Safety and Safeguards, U.S. Nuclear Regulatory Commission, Washington, DC 20555-0001.

SUPPLEMENTARY INFORMATION: On March 18, 2020 (85 FR 15347), the NRC published a direct final rule amending part 34 of title 10 of the Code of Federal Regulations (10 CFR), “Licenses for Industrial Radiography and Radiation Safety Requirements for Industrial Radiographic Operations”; 10 CFR part 36, “Licenses and Radiation Safety Requirements for Irradiators”; and 10 CFR part 39, “Licenses and Radiation Safety Requirements for Well Logging,” to authorize the use of modern personnel dosimeters. The amendments align personnel dosimetry requirements in these areas with the requirements for all other NRC licensees.

The NRC also issued supplemental guidance (ADAMS package Accession No. ML19360A184) in conjunction with the direct final rule. The existing guidance for 10 CFR parts 34, 36, and 39 is provided in NUREG-1556, “Consolidated Guidance About Materials Licenses,” in the volumes for industrial radiography (Volume 2), irradiators (Volume 6), and well logging (Volume 14). The supplemental guidance documents are in a markup format to these NUREG-1556 volumes and reflect the provisions in the direct final rule. The NRC intends to incorporate this supplemental guidance into the next comprehensive revision of NUREG-1556. Beginning on June 16, 2020, licensees may use the supplemental guidance to comply with the provisions in the direct final rule.

In the direct final rule, the NRC stated that if no significant adverse comments were received, the direct final rule would become effective on June 16, 2020. As described more fully in the direct final rule, a significant adverse comment is a comment where the commenter explains why the rule would be inappropriate, including challenges to the rule's underlying premise or approach, or would be ineffective or unacceptable without a change.

The NRC received one comment from the public, which agreed with the proposed changes to the regulations. Because no significant adverse comments were received, the direct final rule will become effective as scheduled.

Dated on May 26, 2020.
For the Nuclear Regulatory Commission.
Cindy K. Bladey,
Chief, Regulatory Analysis and Rulemaking Support Branch, Division of Rulemaking, Environmental, and Financial Support, Office of Nuclear Material Safety and Safeguards.

[FR Doc. 2020-11590 Filed 6-15-20; 8:45 am]

BILLING CODE 7590-01-P